DEPARTMENT OF ENERGY

Federal Energy Regulatory Commission

[Docket No. CP19-86-000]

Spire Storage West, LLC; Notice of Staff Protest to Proposed Blanket Certificate Activity

Commission staff (Protestor) hereby protests the prior notice request filed under the provisions of Part 157, subpart F, of the Commission's regulations, by Spire Storage West, LLC (Spire Storage) on February 13, 2019, in the above-referenced docket. Pursuant to its Part 157, subpart F, blanket certificate authority, Spire Storage proposes to construct and operate 10.1 miles of dual 20-inch-diameter pipelines, one new pipeline interconnection with measurement equipment, and related facilities in Uinta County, Wyoming. Protestor seeks to have this prior notice request processed as a case-specific application filed under section 7(c) of the Natural Gas Act and Part 157, subpart A, of the Commission's regulations.¹

¹ Section 157.205(f) provides that a protested prior notice filing shall be treated as though it had filed a case-specific application under the Natural Gas Act section 7, unless, pursuant to section 157.205(g), the protestor withdraws its protest within 30 days after protests were due.

Protestor notes that Spire Storage did not provide documentation from the Wyoming State Historic Preservation Officer to demonstrate the Project's compliance with Section 106 of the National Historic Preservation Act, as required under section 157.208(c)(9) of the Commission's regulations. Without this information, environmental concerns cannot be adequately assessed before the protest period expires today.

Dated: April 26, 2019.
Nathaniel J. Davis, Sr.,
Deputy Secretary.

[FR Doc. 2019-08903 Filed 5-1-19; 8:45 am]

BILLING CODE 6717-01-P